FEDERAL COMMUNICATIONS COMMISSION

47 CFR Part 73

[MB Docket No. 16-161; FCC 17-3]

Revisions to Public Inspection File Requirements—Broadcaster Correspondence File and Cable Principal Headend Location

AGENCY: Federal Communications Commission.

ACTION: Final rule; announcement of effective date.

SUMMARY: In this document, the Commission announces that the Office of Management and Budget (OMB) has approved, for a period of three years, changes to FCC Form 303-S (Application for Renewal of Broadcast Station License) associated with the Commission's decision in Report and Order, Revisions to Public Inspection File Requirements—Broadcaster Correspondence File and Cable Principal Headend Location. Specifically, OMB has approved the Commission's decision to revise Form 303-S to eliminate those sections of the form that require commercial TV broadcasters to submit with their renewal application a summary of written communications received from the public regarding violent programming (See FCC Form 303-S at p. 5 and instructions at p. 25). This document is consistent with the Report and Order, which stated that the Commission would publish a document in the Federal Register announcing OMB approval and the effective date of this change to FCC Form 303-S (See Public Inspection File R&O, 32 FCC Rcd at 1574-75, para 29).

DATES: The changes to FCC Form 303-S required as a result of the rule adopted at 82 FR 11406, February 23, 2017, are effective on August 31, 2017.

FOR FURTHER INFORMATION CONTACT: For additional information contact Cathy Williams, Cathy.Williams@fcc.gov, (202) 418-2918.

SUPPLEMENTARY INFORMATION: This document announces that, on August 11, 2017, OMB approved the changes to FCC Form 303-S ordered by the Commission in its Report and Order, FCC 17-3, published at 82 FR 11406, February 23, 2017. The OMB Control Number is 3060-0110. The Commission publishes this notice as an announcement of the effective date of the changes to the form. If you have any comments on the burden estimates listed below, or how the Commission can improve the collections and reduce any burdens caused thereby, please contact Cathy Williams, Federal Communications Commission, Room 1-C823, 445 12th Street SW., Washington, DC 20554. Please include the OMB Control Number, 3060-0110, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval, on August 11, 2017, for the changes to FCC Form 303-S. Under 5 CFR part 1320, an agency may not conduct or sponsor a collection of information unless it displays a current, valid OMB Control Number. No person shall be subject to any penalty for failing to comply with a collection of information subject to the Paperwork Reduction Act that does not display a current, valid OMB Control Number. The OMB Control Number is 3060-0110.

The foregoing notice is required by the Paperwork Reduction Act of 1995, Public Law 104-13, October 1, 1995, and 44 U.S.C. 3507.

The total annual reporting burdens and costs for the respondents are as follows:

OMB Control Number: 3060-0110.

OMB Approval Date: August 11, 2017.

OMB Expiration Date: August 31, 2020.

Title: Application for Renewal of Broadcast Station License, FCC Form 303-S; Section 73.3555(d), Daily Newspaper Cross-Ownership.

Form Number: FCC Form 303-S.

Respondents: Business or other for profit entities; Not for profit institutions; State, local or Tribal government.

Number of Respondents and Responses: 4,023 respondents and 4,023 responses.

Estimated Time per Response: 1.25-12 hours.

Frequency of Response: Every eight year report requirement, Third party disclosure requirement.

Obligation to Respond: Required to obtain or retain benefits. The statutory authority for this information collection is contained in sections 154(i), 303, 307, and 308 of the Communications Act of 1934, as amended, and Section 204 of the Telecommunications Act of 1996.

Total Annual Burden: 10,797 hours. Total Annual Cost: $5,073,271.

Nature and Extent of Confidentiality: There is no need for confidentiality with this collection of information.

Privacy Impact Assessment: No impact(s).

Needs and Uses: On January 31, 2017, the Commission adopted a Report and Order (“Public Inspection File R&O”) in MB Docket No. 16-161, FCC 17-3, eliminating the requirement in sections 73.1202 and 73.3526(e)(9) of its rules that commercial broadcast stations retain in their public inspection file copies of letters and emails from the public. The Commission concluded that, because commercial TV licensees will no longer be required to maintain correspondence under the Commission's rules, under the terms of

47 U.S.C. 308(d) they also will not be required to file a summary of correspondence received regarding violent programming with their renewal application. The Commission directed the Media Bureau to revise the renewal application form and instructions consistent with this decision.

Federal Communications Commission.
Katura Jackson,
Federal Register Liaison Officer, Office of the Secretary.

[FR Doc. 2017-18485 Filed 8-30-17; 8:45 am]

BILLING CODE 6712-01-P